DEPARTMENT OF COMMERCE

National Oceanic and Atmospheric Administration

[I.D. 121103A]

Proposed Information Collection; Comment Request; Management and Oversight of the National Estuarine Research Reserve System

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before February 17, 2004.

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information or copies of the information collection instrument and instructions should be directed to Doris Grimm at 301-713-3155, ext. 107, or to Doris.Grimm@noaa.gov.

SUPPLEMENTARY INFORMATION:

I. Abstract

The National Estuarine Research Reserve System consists of carefully-selected estuarine areas of the U.S. that are designated, preserved, and managed for research and educational purposes. The information to be collected is needed from states to review proposed designations. For sites selected, States must develop management plans and submit an annual report/work plan. NOAA needs the information to ensure that the sites selected meet national standards.

II. Method of Collection

Much information can be submitted electronically via a Web site. Other information can be submitted in paper form.

III. Data

OMB Number: 0648-0121.

Form Number: None.

Type of Review: Regular submission.

Affected Public: State, Local, or Tribal Government.

Estimated Number of Respondents: 27.

Estimated Time Per Response: 2,000 for a management plan; 2,000 hours for a site nomination; 15 hours for an annual report/work plan; and 2 hours beyond basic application information for an application requiring a categorical exclusion checklist, state historical office comments, a preliminary engineering report for a construction project or restoration, or a Federal Consistency Certification.

Estimated Total Annual Burden Hours: 14,180.

Estimated Total Annual Cost to Public: $30,794.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: December 10, 2003.
Gwellnar Banks,
Management Analyst, Office of the Chief Information Officer.

[FR Doc. 03-31136 Filed 12-16-03; 8:45 am]

BILLING CODE 3510-08-S